DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2003.

LNAME | FNAME | MNAME
Abbasi | Osama | Salman.
Altunis | Kenan |
Amriati | Anthony | John.
An | Young | Tae.
Arnold | Sandra | Gay.
Baitinger | Marc | Harry.
Bauza | Ae | H.
Beach | Doug | Marshall.
Bobelis | Charles | Kazys.
Boyd Thulin | Samuel | John.
Brugmans | Josephus | P.
Camille Pym | Laura | Elizabeth.
Carr-Harris | Marianna | Catherine.
Cha | Grace |
Chang | Tim | Chung-Tien.
Chang | Yvonne | Fung Oy.
Chew | Deborah | Anne.
Chui | Sai | Peng.
Dabringhausen | Peter |
Dagneau | Pierre | C.
de Grossmann | Pauline | Janette Holley.
De Naeyer | Tanguy | John Verhaeghe.
Del Valle | Javier | Ernesto.
Dognin | Bruno |
Dreyfuss | Catherine | Simonette.
Duffill Green | Hugh | Grant.
Edler | Karoline |
Egli | William | John.
Eskerud | Kristin | Chernus.
Franco | Juan | Carlos.
Franco | Miguel | Angel.
Gorman Chan | Ching | Jenny.
Hampton | Ramona | Alma.
Han | Ki | Song.
Hanlon | Charlotte | Jeane.
Hardin | Bert | Lee.
Haupt | Georg | Manfred.
Hays | Anthony | Davis.
Henry | Rosalba | Norma.
Ho | Alice | Hui-Ching.
Hoelsaether Jensen | Vicki | Joanne.
Humphries | Mary | Elizabeth.
Jack | Juliana | Marie.
Jenson | Cynthia | Hays.
Jo | Kyung | Sook.
Kelland | David | Grant.
Kim | Anne | H.
Kim | Anne | H.
Kleyboldt | Ilse |
Kochendoerfer-Doja | Belinda | Rose.
Kruse | Michael | Harold.
Kuklinski | Michael | Eugene.
Kusak | Albert | Anthony.
Lambert | Kurt | Anderson.
Lee | Sook | Ja.
Lee | Soo | Won.
Lee | Jin | Oah.
Limited | Ing Re | (Ireland).
Manila | Un-Suk |
Martin | Gary | Lowell.
Mayer | Diane | Carol.
Mello | William | Deryck.
Meyer | Borghild |
Millar-Rueprecht | Elizabeth | Ann.
Min | Kyung | Ho.
Mitreska | Katerina |
Morris | James | Lee.
Nacson | Andes |
Nam | Gi | Yeong.
zNam | Yeong | Nam.
Ohmstedt | Susan | Elisabeth.
Olivieri | Rene | H.
Park | Kyungsook | Kim.
Peabody (aka Mary Genevieve Peabody) | Mary | Miller.
Pedersen | Freddy | Enevold.
Pederson | Laurie | Joyce.
Pictet | Christine | Agnes.
Pouletty | Philippe |
Quraeshi | Shoaib |
Riekman | Stephanie | Nancy.
Rodin | Joseph | Martin.
Rodin | Peter | Lawrence.
Rodin | Lew |
Rosetti Sassoon | Alexandria | Juana.
Rossi Di Montelera | Laura | Valeria.
Rothe | Gatja | Helgart.
Rydzewski | Stanislaw | Antoni.
Sadler | Susan |
Sadler | Michael |
Sanderson | Roger | Allan.
Schindler | Joan | Hitt.
Shin | Hyung Ik | James.
Shuey | Eileen | Rosanna.
Signoretti | Mi | Hui.
Smith | Viviane | Angela.
Somers Heidhues | Mary | Frances Ann.
Son | Young | Soon.
Song | Dong | Jin.
Steimer | Olivier | Robert.
Stormorken | Astrid | Tenden.
Taylor-Schlaud | Gwendolyn | Regina.
Thiermeyer | Susan | Beatrice.
Tomassini | Elise | Carden.
Vogeli | Richard | Hermann.
Von Stockar | Beryl | Yvonne.
Waara | Renee | Hilda.
Walker | Catherine | Ann.
Walsh Jr | Frederick | Michael.
Waterson | Sun | I.
Wattles | Gurdon | Dunbar.
Wellesley O'Sullivan | Diana | Gay.
White | Erna | Elisabeth.
Wilson | Karalyn | Margaret Elizabeth.
Wuttke | Rene |

Dated: April 8, 2003.
Samuel Brown,
Team Manager, Examination Operation, Philadelphia Compliance Services.

[FR Doc. 03-10566 Filed 4-29-03; 8:45 am]

BILLING CODE 4830-01-M